DEPARTMENT OF HOUSING AND URBAN DEVELOPMENT

[Docket No. FR-5609-N-02]

Notice of Proposed Information Collection for Public Comment on the Study of: Housing for Youth Aging Out of Foster Care

AGENCY: Office of Policy Development and Research, HUD.

ACTION: Notice of proposed information collection.

SUMMARY: The proposed information collection requirement described below will be submitted to the Office of Management and Budget (OMB) for review, as required by the Paperwork Reduction Act of 1995, Public Law 104-13 (44 U.S.C. 3506(c)(2)(A)). The Department is soliciting public comments on the subject proposal.

DATES: Comments Due Date: March 27, 2012.

ADDRESSES: Interested persons are invited to submit comments regarding this proposal. Comments should refer to the proposal by name and/or OMB Control Number and should be sent to: Reports Liaison Officer, Office of Policy Development and Research, Department of Housing and Urban Development, 451 7th Street SW., Room 8234, Washington, DC 20410.

FOR FURTHER INFORMATION CONTACT: Anne Fletcher at (202) 402-4347 (this is not a toll-free number). Copies of the proposed forms and other available documents submitted to OMB may be obtained from Ms. Fletcher.

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology that will reduce burden, (e.g., permitting electronic submission of responses).

This Notice also lists the following information:

Title of Proposal: Housing for Youth Aging Out of Foster Care.

OMB Control Number: XXXX-pending.

Description of the need for the information and proposed use: This information collection will support research on the role of Family Unification Program vouchers in providing housing for youth aging out of foster care. A survey will be administered to all public housing agencies (PHA) that have an allotment of Family Unification program vouchers (n=300) to determine whether or not their program is currently serving youth aging out of foster care, and why or why not; and for those PHAs that are serving youth, to explore and document key aspects of the program, including the role of the public child welfare agency (PCWA) in the provision of services, the challenges in implementing the program and any strategies employed to overcome challenges; and any outcome data that might be available related to the housing tenancy and tenure of the youth served. A separate survey will be administered to the PHA partnering PCWAs and will include a similar set of questions, as well as additional questions designed to describe the context of the child welfare system within the specific community. The proposed data collection instrument is a web-based survey.

Members of affected public: Public housing agencies (PHA) that administer Family Unification Program (FUP) vouchers and their partnering Public Child Welfare Agencies (PCWA).

Estimation of the total number of hours needed to prepare the information collection including number of respondents, frequency of response, and hours of response:

Estimated Respondent Burden Hours and Costs
Form | Respondent sample | Number of respondents | Average time to complete (Minimum, Maximum) In minutes | Frequency | Total burden (hours)
Survey | PHA Administrators | 300 | 30 | 1 | 150
Survey | PCWA Administrators | 300 | 30 | 1 | 150
Total Burden Hours

Respondent's Obligation: Voluntary.

Status of the proposed information collection: Pending OMB approval.

Authority: Title 13 U.S.C. 9(a), and Title 12, U.S.C. 1701z-1 et seq.

Dated: January 20, 2012.
Raphael W. Bostic,
Assistant Secretary for Policy Development and Research.

[FR Doc. 2012-1704 Filed 1-26-12; 8:45 am]

BILLING CODE 4210-67-P